COMMODITY FUTURES TRADING COMMISSION

17 CFR Part 160

RIN 3038-AB68

Privacy of Consumer Financial Information; Correction

AGENCY: Commodity Futures Trading Commission.

ACTION: Correcting amendments.

SUMMARY: This document contains corrections to the final regulations which were published in the Federal Register of Friday, April 27, 2001 (66 FR 21236). The regulations related to notice requirements and restrictions on the ability of certain financial institutions to disclose nonpublic personal information about consumers to nonaffiliated third parties.

DATES: Effective on June 21, 2001.

FOR FURTHER INFORMATION CONTACT: Susan Nathan, 202-418-5120 (not a toll-free call).

SUPPLEMENTARY INFORMATION:

Background

The final regulations that are the subject of this correction require certain financial institutions to provide their consumers with notice of their privacy policies and practices, and provide that the financial institutions may not disclose nonpublic personal information about a consumer to nonaffiliated third parties unless the institution provides certain information to the consumer and the consumer has not elected to opt out of the disclosure.

Need for Correction

As published, the final regulations contain an error which may prove to be misleading and needs to be clarified.

List of Subjects in 17 CFR Part 160

Brokers, Consumer protection, Privacy, Reporting and recordkeeping requirements.

Accordingly, 17 CFR Part 160 is corrected by making the following correcting amendment:

PART 160—PRIVACY OF CONSUMER FINANCIAL INFORMATION

1. The authority citation for part 160 continues to read as follows:

Authority: U.S.C. 7g and 8a(5); 15 U.S.C. 6801 et seq.

2. Revise paragraph (b)(1) of § 160.18 to read as follows:

§ 160.18 Effective Date; compliance date; transition rule.

* * * * *

(b)(1) Notice requirement for consumers who are your customers on the effective date. By March 31, 2002, you must have provided an initial notice, as required by § 160.4, to consumers who are your customers on March 31, 2002.

Dated: May 7, 2001.
Jean A. Webb,
Secretary of the Commission.

[FR Doc. 01-11861 Filed 5-10-01; 8:45 am]

BILLING CODE 6351-01-M